SMALL BUSINESS ADMINISTRATION

[Disaster Declaration #15859 and #15860; ALASKA Disaster Number AK-00040]

Presidential Declaration of a Major Disaster for the State of Alaska

AGENCY: U.S. Small Business Administration.

ACTION: Notice.

SUMMARY: This is a Notice of the Presidential declaration of a major disaster for the State of Alaska (FEMA-4413-DR), dated 01/31/2019.

Incident: Earthquake.

Incident Period: 11/30/2018.

DATES: Issued on 01/31/2019.

Physical Loan Application Deadline Date: 04/01/2019.

Economic Injury (EIDL) Loan Application Deadline Date: 11/01/2019.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 01/31/2019, applications for disaster loans may be filed at the address listed above or other locally announced locations. The following areas have been determined to be adversely affected by the disaster:

Primary Areas (Physical Damage and Economic Injury Loans): Kenai Peninsula Borough, Matanuska-Susitna Borough, Municipality Of Anchorage.

Contiguous Areas (Economic Injury Loans Only): Alaska

Chugach REAA, Copper River REAA, Delta/Greely REAA, Denali Borough, Iditarod Area REAA, Kodiak Island Borough, Lake and Peninsula Borough.

The Interest Rates are:

| Percent
For Physical Damage:
Homeowners with Credit Available Elsewhere | 4.000
Homeowners without Credit Available Elsewhere | 2.000
Businesses with Credit Available Elsewhere | 7.480
Businesses without Credit Available Elsewhere | 3.740
Non-Profit Organizations with Credit Available Elsewhere | 2.750
Non-Profit Organizations without Credit Available Elsewhere | 2.750
For Economic Injury:
Businesses & Small Agricultural Cooperatives without Credit Available Elsewhere | 3.740
Non-Profit Organizations without Credit Available Elsewhere | 2.750

The number assigned to this disaster for physical damage is 158592 and for economic injury is 158600.

(Catalog of Federal Domestic Assistance Number 59008)

James Rivera,
Associate Administrator for Disaster Assistance.

[FR Doc. 2019-01955 Filed 2-11-19; 8:45 am]

BILLING CODE 8025-01-P